DEPARTMENT OF THE INTERIOR

Bureau of Land Management

[CO-921-06-1320-EL; COC 68590]

Notice of Competitive Coal Lease Offering by Sealed Bid, Colorado

AGENCY: Bureau of Land Management, Interior.

ACTION: Notice.

SUMMARY: Notice is hereby given that the United States Department of the Interior, Bureau of Land Management (BLM), Colorado State Office, will offer certain coal resources in Moffat County, Colorado, hereinafter described as Federal coal lease application (LBA) COC 68590 for competitive lease by sealed bid in accordance with the provisions for competitive lease sales in 43 CFR 3422.2(a), and the Mineral Leasing Act of 1920, as amended and supplemented (30 U.S.C. 181 et seq.).

DATES: The lease sale will be held at 11 a.m., Tuesday, December 19, 2006. Sealed bids must be sent by certified mail, return receipt requested, or be hand delivered to the address indicated below, and must be received on or before 10 a.m., Tuesday, December 19, 2006. The cashier will issue a receipt for each hand delivered sealed bid. Any bid received after the time specified will not be considered and will be returned. The outside of the sealed envelope containing the bid must clearly state that the envelope contains a bid for Coal Lease Sale COC 68590, and is not to be opened before the date and hour of the sale.

ADDRESSES: The lease sale will be held in the BLM Colorado State Office, Conference Room, Fourth Floor, 2850 Youngfield Street, Lakewood, Colorado. Sealed bids must be submitted, hand delivered or mailed to the Cashier, BLM Colorado State Office, 2850 Youngfield Street, Lakewood, Colorado 80215.

FOR FURTHER INFORMATION CONTACT: Karen Zurek at BLM Colorado State Office, 2850 Youngfield Street, Lakewood, Colorado 80215 or telephone 303-239-3795.

SUPPLEMENTARY INFORMATION: The coal resource to be offered consists of recoverable coal reserves in the X through G seams mined by surface mining methods in the following lands:

T. 3 N., R. 94 W., 6th P.M.

Sec. 1, lots 7, 8, SW¼NW¼, N½SE¼NW¼, SW¼SE¼NW¼, N½NW¼SW¼, and SW¼NW¼SW¼;

Sec. 2, lots 5 to 8, inclusive, S½N½, SW¼, N½SE¼, SW¼SE¼, N½SE¼SE¼, and SW¼SE¼SE¼;

Sec. 3, lot 5, E½W½NE¼, SE¼NE¼, and E½SE¼;

Sec. 10, NE¼NE¼;

Sec. 11, NW¼NE¼NE¼, N½NW¼NE¼, SW¼NW¼NE¼, NW¼SW¼NE¼; N½NW¼, NE¼SW¼NW¼, and N½SE¼NW¼.

T. 4 N., R. 94 W., 6th P.M.

Sec. 34, S½NE¼NE¼, SE¼NE¼, E½W½SE¼, and E½SE¼.

Containing approximately 1,406.71 acres in Moffat County, Colorado.

Total recoverable reserves are estimated to be 92 million tons. The surface minable coal is ranked as sub-bituminous B coal. The estimated coal quality on an as-received basis for the seams are as follows:

X Through G Seams
BTU | 10,549 BTU/lb (percent)
Volatile Matter | 33.52
Moisture | 15.90
Fixed Carbon | 44.92
Sulfur Content | 0.48
Ash Content | 5.66

The tract will be leased to the qualified bidder of the highest cash amount, provided that the high bid meets the fair market value (FMV) for the tract as determined by the authorized officer after the Sale. The Department of the Interior has established a minimum bid of $100 per acre or fraction thereof for Federal coal tracts. The minimum bid is not intended to represent FMV. In the event identical high sealed bids are received, the tying high bidders will be requested to submit follow-up bids until a high bid is received. All tie-breaking sealed bids must be submitted within 15 minutes following the Sale Official's announcement at the sale that identical high bids have been received.

The lease issued as a result of this offering will provide for payment of an annual rental of $3.00 per acre or fraction thereof and a royalty payable to the United States of 12.5 percent of the value of the coal mined by surface mine methods and 8 percent of the value of coal mined by underground methods. The value of the coal will be determined in accordance with 30 CFR 206.250.

Bidding instructions for the offered tract are included in the Detailed Statement of Coal Lease Sale. Copies of the Detailed Statement and the proposed coal lease are available upon request in person or by mail from the Colorado State Office at the address given above. The case file is available for inspection in the Public Reference Room, Colorado State Office, during normal business hours at the address given above.

Karen Zurek,
Solid Minerals Staff, Division of Energy, Lands and Minerals.

[FR Doc. E6-20299 Filed 11-30-06; 8:45 am]

BILLING CODE 4310-JB-P